DEPARTMENT OF LABOR

Employment and Training Administration

[TA-W-50,398]

West Coast Automation Corporation, Goldendale, WA; Notice of Termination of Investigation

Pursuant to Section 221 of the Trade Act of 1974, an investigation was initiated on December 19, 2002 in response to a petition filed on December 18, 2002 on behalf of workers at West Coast Automation Corporation, Goldendale, Washington.

The petitioner has requested that the petition be withdrawn. Consequently, further investigation in this case would serve no purpose, and the investigation has been terminated.

Signed in Washington, DC, this 31st day of January, 2003.
Richard Church,
Certifying Officer, Division of Trade Adjustment Assistance.

[FR Doc. 03-4273 Filed 2-21-03; 8:45 am]

BILLING CODE 4510-30-P